DEPARTMENT OF EDUCATION

President's Advisory Board on Tribal Colleges and Universities; Meeting

AGENCY: President's Advisory Board on Tribal Colleges and Universities.

ACTION: Notice of open meeting.

SUMMARY: This notice sets forth the schedule and proposed agenda of the first meeting of the President's Advisory Board on Tribal Colleges and Universities and is intended to notify the general public of their opportunity to attend. This notice also describes the functions of the Board. Notice of the Board's meeting is required under Section 10(a)(2) of the Federal Advisory Committee Act.

Date and Time: February 11, 2000, from 9:00 a.m. to 5:00 p.m., and February 12, 2000, from 8:30 a.m. to 4:00 p.m.

Location: The Federal South Conference Room on February 11th, and the Congressional Conference Room on February 12th, Holiday Inn on the Hill, 415 New Jersey Avenue, NW, Washington, DC 20001.

FOR FURTHER INFORMATION CONTACT: Carrie Billy, Executive Director, President's Advisory Board on Tribal Colleges and Universities, U.S. Department of Education, 4050 MES, 330 C. Street, SW, Washington, DC 20202-7594, Telephone: 202-260-5714.

SUPPLEMENTARY INFORMATION: The Board is established by Executive Order 13021 (October 19, 1996) to provide advice regarding the progress made by federal agencies toward fulfilling the purposes and objective of the order. The Board shall also provide recommendations to the President and the Secretary of Education at least annually on ways Tribal Colleges can:

(1) Use long-term development, endowment building, and master planning to strengthen institutional viability;

(2) Use the federal and private sector to improve financial management and security, obtain private sector funding support, and expand and complement federal education initiatives;

(3) Develop institutional capacity through the use of new and emerging technologies offered by the federal and private sectors;

(4) Enhance physical infrastructure to facilitate more efficient operation and effective recruitment and retention of students and faculty; and

(5) Help achieve National Education Goals and meet other high standards of education accomplishment.

The meeting agenda will include: Strategic Planning discussions; information sharing among Presidentially appointed members; and organizing the Presidential Advisory Board on Tribal Colleges and Universities into cluster committees and developing their agenda. The general public is encouraged to attend. However, space is limited and is available on a first come, first served basis.

A summary of the activities of the meeting and other related materials, which are informative to the public and consistent with the policy of section 5 U.S.C. 552b, will be available to the public within 14 days after the meeting. Records are kept of all Board proceedings and are available for public inspection at White House Initiative on Tribal Colleges & Universities, U.S. Department of Education, 4050 MES, 330 C. Street, SW, Washington, DC from 9:00 a.m. to 5:30 p.m.

Dated: February 3, 2000.
Robert D. Muller,
Acting Assistant Secretary, Office of Vocational and Adult Education.

[FR Doc. 00-2902 Filed 2-7-00; 8:45 am]

BILLING CODE 4000-01-M